DEPARTMENT OF ENERGY

Federal Energy Regulatory Commission

[Docket No. RP04-122-000]

El Paso Natural Gas Company; Notice of Proposed Changes in FERC Gas Tariff

January 2, 2004.

Take notice that on December 24, 2003, El Paso Natural Gas Company (EPNG) tendered for filing as part of its FERC Gas Tariff, Second Revised Volume No. 1A, the following tariff sheets bearing a proposed effective date of January 23, 2004:

Third Revised Sheet No. 200

Third Revised Sheet No. 361

Second Revised Sheet No. 362

EPNG states that these tariff sheets permit EPNG to hold capacity with upstream and downstream entities in compliance with Commission's off-system capacity policies.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Linda Mitry,
Acting Secretary.

[FR Doc. E4-22 Filed 1-9-04; 8:45 am]

BILLING CODE 6717-01-P